DEPARTMENT OF THE INTERIOR

National Park Service

[NPS-WASO-NAGPRA-19124; PPWOCRADN0-PCU00RP14.R50000]

Notice of Inventory Completion: U.S. Department of the Interior, National Park Service, Canaveral National Seashore, Titusville, FL

AGENCY: National Park Service, Interior.

ACTION: Notice.

SUMMARY: The U.S. Department of the Interior, National Park Service, Canaveral National Seashore has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to Canaveral National Seashore. If no additional requestors come forward, transfer of control of the human remains to the Indian tribes or Native Hawaiian organizations stated in this notice may proceed.

DATES: Representatives of any Indian tribe or Native Hawaiian organization not identified in this notice that wish to request transfer of control of these human remains should submit a written request with information in support of the request to Canaveral National Seashore at the address in this notice by November 2, 2015.

ADDRESSES: Myrna Palfrey, Superintendent, Canaveral National Seashore, 212 S. Washington Avenue, Titusville, FL 32796-3553, telephone (321) 267-1110, email myrna_palfrey@nps.gov.

SUPPLEMENTARY INFORMATION: Notice is here given in accordance with the Native American Graves Protection and Repatriation Act (NAGPRA), 25 U.S.C. 3003, of the completion of an inventory of human remains under the control of the U.S. Department of the Interior, National Park Service, Canaveral National Seashore, Titusville, FL. The human remains were removed from sites in Brevard and Volusia Counties, FL.

This notice is published as part of the National Park Service's administrative responsibilities under NAGPRA, 25 U.S.C. 3003(d)(3) and 43 CFR 10.11(d). The determinations in this notice are the sole responsibility of the Superintendent, Canaveral National Seashore.

Consultation

A detailed assessment of the human remains was made by Canaveral National Seashore professional staff in consultation with representatives of the Miccosukee Tribe of Indians and the Seminole Tribe of Florida (previously listed as the Seminole Tribe of Florida (Dania, Big Cypress, Brighton, Hollywood & Tampa Reservations)).

History and Description of the Remains

In 1975-76, human remains representing, at minimum, two individuals were removed from Butler Campbell Mound in Brevard County, FL during a general surface collection. The site has not been assigned a specific period, but is known to be prehistoric Native American. No known individuals were identified. No associated funerary objects are present.

In 1975-76, human remains representing, at minimum, one individual were removed from Clark Slough in Brevard County, FL during a general surface collection. The site dates to the St. Johns period (500 B.C.-A.D. 1565). No known individuals were identified. No associated funerary objects are present.

In 1975-76, human remains representing, at minimum, one individual were removed from Nauman's Place in Brevard County, FL during a general surface collection. The site dates to the St. Johns period (500 B.C.-A.D. 1565). No known individuals were identified. No associated funerary objects are present.

In 1975-76, human remains representing, at minimum, one individual were removed from Bill's Hill in Brevard County, FL during test excavations. The site dates to the St. Johns I period (A.D. 500-800). No known individuals were identified. No associated funerary objects are present.

In 1979, human remains representing, at minimum two individuals were removed from Ross Hammock in Volusia County, FL by an unknown individual from a spoil pile. The site dates to the St. Johns I period (A.D. 500-800). No known individuals were identified. No funerary objects are present.

In 1988-89, human remains representing, at minimum, one individual were removed from an unnamed site in Volusia County, FL by a park visitor during a boardwalk restoration project. No known individuals were identified. No associated funerary objects are present.

Cultural affiliation of the human remains described above could not be determined due to uncertain burial provenience, lack of culturally affiliated historic artifacts, and/or the antiquity of the remains.

Determinations Made by Canaveral National Seashore

Officials of Canaveral National Seashore have determined that:

• Pursuant to 25 U.S.C. 3001(9), the human remains described in this notice are Native American based on archeological context.

• Pursuant to 25 U.S.C. 3001(9), the human remains described in this notice represent the physical remains of eight individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Miccosukee Tribe of Indians and the Seminole Tribe of Florida (previously listed as the Seminole Tribe of Florida (Dania, Big Cypress, Brighton, Hollywood & Tampa Reservations)).

• Treaties, Acts of Congress, or Executive Orders, indicate that the land from which the Native American human remains were removed is the aboriginal land of the Miccosukee Tribe of Indians and the Seminole Tribe of Florida (previously listed as the Seminole Tribe of Florida (Dania, Big Cypress, Brighton, Hollywood & Tampa Reservations)).

• Pursuant to 43 CFR 10.11(c)(1), the disposition of the human remains may be to the Miccosukee Tribe of Indians and the Seminole Tribe of Florida (previously listed as the Seminole Tribe of Florida (Dania, Big Cypress, Brighton, Hollywood & Tampa Reservations)).

Additional Requestors and Disposition

Representatives of any Indian tribe or Native Hawaiian organization not identified in this notice that wish to request transfer of control of these human remains should submit a written request with information in support of the request to Myrna Palfrey, Superintendent, Canaveral National Seashore, 212 S. Washington Avenue, Titusville, FL 32796-3553, telephone (321) 267-1110, email myrna_palfrey@nps.gov, by November 2, 2015. After that date, if no additional requestors have come forward, transfer of control of the human remains to the Miccosukee Tribe of Indians and the Seminole Tribe of Florida (previously listed as the Seminole Tribe of Florida (Dania, Big Cypress, Brighton, Hollywood & Tampa Reservations)) may proceed.

Canaveral National Seashore is responsible for notifying the Miccosukee Tribe of Indians and the Seminole Tribe of Florida (previously listed as the Seminole Tribe of Florida (Dania, Big Cypress, Brighton, Hollywood & Tampa Reservations)) that this notice has been published.

Dated: August 25, 2015.
Melanie O'Brien,
Manager, National NAGPRA Program.

[FR Doc. 2015-25042 Filed 9-30-15; 8:45 am]

BILLING CODE 4312-50-P